DEPARTMENT OF TRANSPORTATION

Federal Aviation Administration

14 CFR Part 71

[Docket No. FAA-2019-0786; Airspace Docket No. 18-AWP-1]

RIN 2120-AA66

Amendment of Class E Airspace and Establishment of Class E Airspace Extension; Battle Mountain, NV

AGENCY: Federal Aviation Administration (FAA), DOT.

ACTION: Final rule.

SUMMARY: This action amends the Class E surface area, Class E airspace extending upward from 700 feet above the surface and creates Class E airspace as an extension to the Class E surface area at Battle Mountain Airport, Battle Mountain, NV. After establishment of a new area navigation (RNAV) procedure and review of the airspace, the FAA found it necessary to amend the existing airspace and establish new controlled airspace for the safety and management of Instrument Flight Rules (IFR) operations at this airport. This action also removes a reference to the Battle Mountain VORTAC from the legal description for the Class E airspace extending upward from 700 feet.

DATES: Effective 0901 UTC, July 16, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Richard Roberts, Federal Aviation Administration, Western Service Center, Operations Support Group, 2200 S. 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it will amend the existing Class E airspace and establish new Class E airspace as an extension to the Class E surface area at Battle Mountain Airport, Battle Mountain, NV, in support of IFR operations at the airport.

History

The FAA published a notice of proposed rulemaking in the Federal Register (84 FR 65714; November 29, 2019) for Docket No. FAA-2019-0786 to amend and establish Class E airspace at Battle Mountain Airport, Battle Mountain, NV. Interested parties were invited to participate in this rulemaking effort by submitting written comments on the proposal to the FAA. No comments were received.

Class E airspace designations are published in paragraph 6002, 6004 and 6005 of FAA Order 7400.11D, dated August 8, 2019 and effective September 15, 2019, which is incorporated by reference in 14 CFR 71.1. The Class E airspace designation listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71 modifies Class E airspace at Battle Mountain Airport, Battle Mountain, NV. The Class E surface area will be adjusted to that area within 4.2 miles of the airport. The surface area that extends 1 mile both sides of the 218° bearing from the 4.2 mile radius to 7.4 miles southwest of the airport will be eliminated.

A Class E extension to the surface area will be established within 1.3 miles each side of the 228° bearing, which will provide the required airspace to protect aircraft descending through 1000 feet AGL, while using the VOR approach to runway 4.

The Class E airspace extending upward from 700 feet AGL will be modified by establishing airspace 2 miles on each side of the 48° bearing from the airport to 11 miles northeast, to contain a new RNAV approach to runway 22. To the west, the airspace extending upward from 700 feet AGL is expanded from the current 4.2 mile radius to 7 miles from the airport, between the 265° bearing clockwise to the 32° bearing, to protect departures until they reach 1200 feet AGL. This action also modifies the lateral boundaries of the Class E airspace extending upward from 700 feet AGL to the southwest from 25 miles of the Battle Mountain VORTAC to within a 16.5 mile radius of the airport from the 204° bearing clockwise to the 266° bearing. This will protect the VOR Approach to runway 4, as aircraft descend through 1500 feet.

This action eliminates the Battle Mountain VORTAC as a reference point in the legal description, as it is no longer required.

This airspace supports IFR operations at Battle Mountain Airport, Battle Mountain, NV.

Class E airspace designations are published in paragraph 6002, 6004 and 6005 of FAA Order 7400.11D, dated August 8, 2019 and effective September 15, 2019, which is incorporated by reference in 14 CFR 71.1. The Class E airspace designation listed in this document will be published subsequently in the Order. FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Designated as Surface Areas.

* * * * *

AWP NV E2 Battle Mountain, NV [Amended]

Battle Mountain Airport, NV

(Lat. 40°35′57″ N, long. 116°52′28″ W)

That airspace extending upward from the surface to and including 2500 feet MSL within a 4.2-mile radius of Battle Mountain Airport, Battle Mountain, NV. This Class E airspace area is effective during the specific dates and times established in advance by a Notice to Airmen. The effective date and times will thereafter be continuously published in the Chart Supplement.

Paragraph 6004 Class E Airspace Areas Designated as an Extension to a Class D or Class E Surface Area.

* * * * *

AWP NV E4 Battle Mountain, NV [NEW]

Battle Mountain Airport, NV

(Lat. 40°35′57″ N, long. 116°52′28″ W)

That airspace extending upward from the surface within 1.3 miles each side of the 228° bearing from the Battle Mountain Airport extending from the 4.2 mile radius to 7 miles southwest of Battle Mountain Airport, Battle Mountain NV.

Paragraph 6005 Class E Airspace Areas Extending Upward From 700 Feet or More Above the Surface of the Earth.

* * * * *

AWP NV E5 Battle Mountain, NV [Amended]

Battle Mountain Airport, NV

(Lat. 40°35′57″ N, long. 116°52′28″ W)

That airspace extending upward from 700 feet above the surface within 16.5-mile radius of the Battle Mountain Airport beginning at the point where the 205° bearing intersects the 16.5-mile radius thence clockwise to the point where the 266° bearing intersects the 16.5-mile radius thence northeast along the 266° bearing to within 7 miles of the airport, thence clockwise along the 7-mile radius to the point where the 65° bearing intersects the 7-mile radius thence to the point where the 77° bearing intersects the 4.2-mile radius thence clockwise to the point where the 158° bearing intersects the 4.2 mile radius, thence to the point of beginning; and that airspace within 2 miles each side of the 49° bearing extending from the 4.2 mile radius to 10.5 miles from the airport.

Issued in Seattle, Washington, on March 26, 2020.
Shawn M. Kozica,
Group Manager, Western Service Center, Operations Support Group.

[FR Doc. 2020-07031 Filed 4-2-20; 8:45 am]

BILLING CODE 4910-13-P